DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: NOAA Space-Data Collection System (DCS) Agreements.

OMB Control Number: 0648-0157.

Form Number(s): None.

Type of Request: Regular (extension of a currently approved information collection).

Number of Respondents: 225.

Average Hours per Response: 30 minutes.

Burden Hours: 113.

Needs and Uses: This request is for extension of an existing information collection.

The National Oceanic and Atmospheric Administration (NOAA) operates two space-based data collection systems (DCS), the Geostationary Operational Environmental Satellite (GOES) DCS and the Polar-Orbiting Operational Environmental Satellite (POES) DCS, also known as the Argos system. NOAA allows users access to the DCS if they meet certain criteria. The applicants must submit information to ensure that they meet these criteria. NOAA does not approve agreements where there is a commercial service available to fulfill the user's requirements.

Affected Public: Federal government; state, local or tribal government; business or other for-profit organizations; not-for-profit institutions; individuals or households.

Frequency: Annually, every three years or every five years.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Dated: March 22, 2017.
Sarah Brabson,
NOAA PRA Clearance Officer.

[FR Doc. 2017-05974 Filed 3-24-17; 8:45 am]

BILLING CODE 3510-HR-P